ENVIRONMENTAL PROTECTION AGENCY

[FRL-7836-7]

Environmental Laboratory Advisory Board (ELAB) Meeting Dates, and Agenda

AGENCY: Environmental Protection Agency (EPA).

ACTION: Notice of teleconference meetings.

SUMMARY: The Environmental Protection Agency's Environmental Laboratory Advisory Board (ELAB), as previously announced, will have teleconference meetings on November 17, 2004, at 1 p.m. e.t.; December 15, 2004, at 1 p.m. e.t.; January 19, 2005, at 1 p.m. e.t.; February 15, 2005, at 1 p.m. e.t.; and March 16, 2005, at 1 p.m. e.t. to discuss the ideas and views presented at the previous ELAB meetings, as well as new business. Items to be discussed by ELAB over these coming meetings include: What actions can be taken to expand the number of laboratories seeking accreditation under the National Environmental Laboratory Accreditation Conference (NELAC) program; homeland security issues affecting the laboratory community; ELAB support to the Agency's Forum on Environmental Measurements (FEM); what needs to be done to facilitate the implementation of the use of a performance approach in environmental monitoring; increasing state participation in NELAC; and follow-up on some of ELAB's past recommendations and issues. In addition to these teleconferences, ELAB will be hosting their next, public face-to-face meeting on February 2, 2005, at the Sheraton Society Hill in Philadelphia, Pennsylvania from 8:30-11:30 a.m. e.t.

Written comments on laboratory accreditation issues and/or environmental monitoring issues are encouraged and should be sent to the ELAB Designated Federal Official, Ms. Lara P. Autry, U.S. EPA (E243-05), 109 T. W. Alexander Drive, Research Triangle Park, NC 27709, faxed to (919) 541-4261, or e-mailed to autry.lara@epa.gov. Members of the public are invited to listen to the teleconference calls and attend the face-to-face meetings. Time permitting, the public will be allowed to comment on issues discussed during current and previous ELAB meetings. Those persons interested in attending should call Lara P. Autry at (919) 541-5544 to obtain teleconference information. The number of lines available for the teleconferences, however, are limited and will be distributed on a first come, first serve basis. Preference will be given to a group wishing to attend over a request from an individual.

Paul Gilman,
Assistant Administrator, Office of Research and Development.

[FR Doc. 04-25068 Filed 11-9-04; 8:45 am]

BILLING CODE 6560-50-P